DEPARTMENT OF COMMERCE

Census Bureau

[Docket Number 201105-0290]

Change to County Equivalents in the State of Connecticut

AGENCY: Bureau of the Census, Commerce.

ACTION: Notice of proposed program and request for comments.

SUMMARY: This notice provides information about the State of Connecticut's (hereafter Connecticut or the State) formal request to the Bureau of the Census (hereafter, Census Bureau) to adopt the State's nine planning regions as the county equivalent geographic unit for purposes of collecting, tabulating, and disseminating statistical data, replacing the eight counties, which ceased to function as governmental and administrative entities in 1960. The Census Bureau proposes to implement this change in 2023. The Census Bureau is publishing this Notice to inform users of county-level data of the proposed change and is requesting information related to potential impacts of this change. The Census Bureau and the State of Connecticut will use this information to reach a final decision regarding whether to implement this change to the county equivalents in Connecticut as well as the timing of implementation.

DATES: Written comments on this notice must be submitted on or before February 12, 2021.

ADDRESSES: Please direct all written comments on this proposed program to Vincent Osier, Geographic Standards, Criteria, and Quality Branch, Geography Division, U.S. Census Bureau, Room 4H173, 4600 Silver Hill Road, Washington, DC 20233-7400. Email: geo.geography@census.gov. Phone: 301-763-1128.

FOR FURTHER INFORMATION CONTACT: Requests for additional information on this proposed program should be directed to Vincent Osier, Geographic Standards, Criteria, and Quality Branch, Geography Division, U.S. Census Bureau, Room 4H173, 4600 Silver Hill Road, Washington, DC 20233-7400. Email: Vincent.osier@census.gov. Phone: 301-763-9039 or 301-763-1128.

SUPPLEMENTARY INFORMATION: This notice provides information about the State of Connecticut's formal request to the Census Bureau to adopt the State's nine planning regions, designated under Section 16a-4a(4) of the Connecticut General Statutes, as the county-equivalent geographic unit for purposes of collecting, tabulating, and disseminating statistical data. The Census Bureau seeks information and comments related to the impact that adoption of planning regions as county equivalents might have on data analysis, planning and decision making, and program implementation; specifically, (1) are there data collection and tabulation programs or nonstatistical programs that will not be able to implement this change; (2) will the proposed change in county equivalents pose such a substantial break in data continuity that longitudinal analyses are not possible; and (3) are there specific programs and other uses of county-level information in which continued reference to the more familiar current counties is advisable and preferred?

The Census Bureau strives to provide statistical data for geographic areas that are meaningful and relevant to analysis and decision-making. In Connecticut, nine councils of governments (COGs) exist to address matters of mutual interest to their constituent cities and towns, with each city and town represented by its municipal chief elected official. Connecticut's counties ceased to function as governmental and administrative entities in 1960.

The nine COGs function as regional planning organizations, coordinating activities for their constituent cities and towns, and in that capacity can exercise a variety of responsibilities typically undertaken by counties in other states. As such, the planning regions are more meaningful and relevant areas for tabulation and dissemination of statistical data within Connecticut as well as for regional and national county comparisons, than are the eight counties. The Census Bureau proposes to implement this change in 2023, and use the new county equivalents when reporting demographic and economic statistical data referenced to 2023 and all years thereafter.

Background

Officials with the Connecticut Office of Policy and Management contacted the Census Bureau in October 2017 regarding the possibility of replacing the State's eight counties with the State's nine planning regions for purposes of collecting, tabulating, and disseminating statistical data. Connecticut officials noted that cities and towns, not counties, are the primary units of local government.

Although Connecticut's eight counties have long provided stable geographic units for reporting statistical data, they have not served as functional governmental and administrative entities since county government was abolished in 1960. The State's nine COGs function as regional planning organizations, coordinating activities for their constituent cities and towns (note, however, that in some instances the name of the planning region differs from that of its COG). As such, planning regions provide a more meaningful geographic unit for reporting data since the data would be aligned with the collection of municipalities (i.e., cities and towns) that constitute the governance framework for each COG. Each municipality within a designated planning region is entitled to membership in the region's COG upon adoption of an ordinance by its legislative body. The chief elected official of each member municipality is then provided a vote on all COG matters. By reporting statistical data for COGs, member municipalities will be in a better position to plan and act collaboratively and strategically on the efficient delivery of services, bulk purchasing, and other matters of practical interest.

While COGs do not have the authority to levy taxes, they are authorized under State law to assess dues on their member municipalities, to accept other sources of public and private assistance for the purpose of providing regional and shared services, and to administer a regional property tax base revenue sharing system if approved by a unanimous vote of its member municipalities. In this regard, as well as the ability to provide the variety of services listed below, the Connecticut's COGs and associated planning regions have the authority to carry out administrative functions that are typically found among counties in other states. Section 8-31b(b) of the Connecticut General Statutes states that

Regional services provided to member municipalities shall be determined by each regional council of governments . . . and may include, without limitation, the following services: (1) Engineering; (2) inspectional and planning; (3) economic development; (4) public safety; (5) emergency management; (6) animal control; (7) land use management; (8) tourism promotion; (9) social; (10) health; (11) education; (12) data management; (13) regional sewerage; (14) housing; (15) computerized mapping; (16) household hazardous waste collection; (17) recycling; (18) public facility siting; (19) coordination of master planning; (20) vocational training and development; (21) solid waste disposal; (22) fire protection; (23) regional resource protection; (24) regional impact studies; and (25) transportation.

In the same section, the COGs are authorized to “accept or participate in any grant, donation or program made available to counties by any other governmental or private entity.” Adoption of COGs as county equivalents will make them eligible to apply for federal grant programs open to counties.

Scope of Change

Adoption of the nine planning regions as county equivalents applies to the collection, tabulation, and dissemination of Census Bureau statistical data for Connecticut. The Census Bureau proposes to implement this change in 2023, and will use planning regions in all of its programs that collect, tabulate, and disseminate demographic or economic data, such as the American Community Survey (ACS), the intercensal Population Estimates Program, Small Area Income and Poverty Estimates (SAIPE) Program, the Economic Census, County Business Patterns, and the Longitudinal Employer-Household Dynamics Program. While other federal agencies are encouraged to adopt Connecticut's planning regions as county equivalents for use in their statistical and non-statistical programs, the Census Bureau does not have the authority to require such a change. Nevertheless, adoption of planning regions as county equivalents will assure comparability of data produced by all federal agencies as well as comparability between statistical and non-statistical programs.

Transitioning From Counties to Planning Regions

Relationship Between Counties and Planning Regions

Figure 1 depicts the relationship between Connecticut's eight counties and its nine planning regions. Although the planning regions and counties do not align, there is substantial overlap, to the extent that one can discern the relationships between individual planning regions and counties. The closest relationship is between Middlesex County and Lower Connecticut River Valley planning region, with all 15 of the cities and towns within the county also located within the planning region (which also contains two towns located in New London County. See Table 2).

Cities and towns are the constituent governments within each COG/planning region. As such, data for cities and towns can be aggregated to planning regions, facilitating reconstruction of time series data and longitudinal analysis. Table 1 provides the 2010 Census population and the 2019 estimated population for each planning region, based on aggregated data for constituent cities and towns.

Source: https://www.census.gov/data/tables/time-series/demo/popest/2010s-total-cities-and-towns.html

Table 1—Planning Region Population: 2010 and 2019
Planning region | 2010 Census population | 2019 Population estimate
Capitol | 973,959 | 969,831
Greater Bridgeport | 318,004 | 320,921
Lower Connecticut River Valley | 175,686 | 172,058
Naugatuck Valley | 448,738 | 442,869
Northeastern Connecticut | 96,617 | 95,570
Northwest Hills | 115,247 | 110,102
South Central Connecticut | 570,001 | 566,579
Southeastern Connecticut | 286,711 | 277,635
Western Connecticut | 589,135 | 609,722

Table 2 provides the number of cities and towns within each of the eight counties and the number within corresponding planning regions, further illustrating the overlap between counties and planning regions.

Table 2—Distribution of Cities and Towns within Counties and Planning Regions.
County | Cities and towns in county | Cities and towns within planning regions: Capitol | Cities and towns within planning regions: Greater bridgeport | Cities and towns within planning regions: Lower CT river valley | Cities and towns within planning regions: Naugatuck valley | Cities and towns within planning regions: Northeastern CT | Cities and towns within planning regions: NW Hills | Cities and towns within planning regions: South central CT | Cities and towns within planning regions: Southeastern CT | Cities and towns within planning regions: Western CT
Fairfield | 23 |  | 6 |  | 1 |  |  |  |  | 16
Hartford | 29 | 26 |  |  | 1 |  | 2
Litchfield | 26 |  |  |  | 5 |  | 19 |  |  | 2
Middle-sex | 15 |  |  | 15
New Haven | 27 |  |  |  | 12 |  |  | 15
New London | 21 |  |  | 2 |  | 1 |  |  | 18
Tolland | 13 | 12 |  |  |  | 1
Wind-ham | 15 |  |  |  |  | 14 |  |  | 1
Total | 169 | 38 | 6 | 17 | 19 | 16 | 21 | 15 | 19 | 18

Using the distribution of cities and towns within counties and planning regions as a guide, Table 3 presents the approximate relationship between counties and planning regions, which could be used when building longitudinal data for geographic areas for which counties and county equivalents are building blocks if component city- and town-level data were not available.

Table 3—Counties-to-Planning Regions Approximation
County | 2018 County population estimate | Planning region | 2019 Planning region population estimate
Fairfield |  | Greater Bridgeport | 320,921
| 943,823 | Western Connecticut | 609,722 ROW> | Hartford | 892,697 | Capitol | 969,831
Tolland | 150,921
Litchfield | 181,111 | Northwest Hills | 110,102
Middlesex | 162,682 | Lower Connecticut River Valley | 172,058
New Haven | 857,620 | Naugatuck Valley | 442,869
|  | South Central Connecticut | 566,579
New London | 266,784 | Southeastern Connecticut | 277,635
Windham | 117,027 | Northeastern Connecticut | 95,570

To assist with transitioning from counties to planning regions and to assist with development of longitudinal data for the new county equivalents, the Census Bureau will produce and make available reference files identifying the cities and towns that constitute each planning region. This will facilitate aggregation of data from decennial censuses, the ACS, the intercensal Population Estimates Program, SAIPE, the Economic Census, and the Longitudinal Employer-Household Dynamics Program, all of which collect, tabulate, and disseminate data for cities and towns in Connecticut. In addition, the Census Bureau will produce and make available other reference files, identifying the relationships between various sub-state and sub-county geographic areas and the planning regions.

Upon adoption of this change, the Census Bureau will include planning regions in all geospatial data products, including TIGER/Line shapefiles, TIGER/Line geodatabases, cartographic boundary files, and mapping services.

Each planning region will be assigned a three-digit Federal Information Processing Series (FIPS) code, starting with 017, and continuing in alphabetical order by name (Table 4). Codes 001 through 015 will continue to reference the eight counties but will be retired. Each planning region also will be assigned an eight-digit American National Standards Institute (ANSI) code and will be included in the U.S. Board on Geographic Names' Geographic Names Information System. In addition, the Census Bureau will work with the State of Connecticut to determine the appropriate FIPS class code, functional status code, and other codes that describe the attributes of the planning regions. The FIPS codes, ANSI codes, and attribute codes will be included in Census Bureau geographic reference products when this proposed change is adopted.

Table 4—Planning Region Names, Legal/Statistical Area Description, and Federal Information Processing Series (FIPS) Codes
Name | FIPS state- county code
Capitol Planning Region | 09017
Greater Bridgeport Planning Region | 09019
Lower Connecticut River Valley Planning Region | 09021
Naugatuck Valley Planning Region | 09023
Northeastern Connecticut Planning Region | 09025
Northwest Hills Planning Region | 09027
South Central Connecticut Planning Region | 09029
Southeastern Connecticut Planning Region | 09031
Western Connecticut Planning Region | 09033

Relationship to Other Statistical Geographic Entities

The Census Bureau accounted for the change from counties to planning regions when implementing the Participant Statistical Areas Program (PSAP) for the 2020 Census, the program in which the Census Bureau works with local officials to review and update block groups and census tracts. The planning regions were the official PSAP participants in Connecticut for both the 2010 and 2020 censuses, thus ensuring that census tracts and block groups generally aligned with city and town boundaries, facilitating transition to the new county equivalents. The Census Bureau further reviewed block group and census tract boundaries for the 2020 Census to ensure alignment with planning region boundaries. As a result, the change to county equivalents in Connecticut will not affect block group and census tract boundaries. Both types of entities will nest within planning region boundaries.

The adoption of planning regions as county equivalents will affect the delineation of Metropolitan and Micropolitan Statistical Areas as well as Combined Statistical Areas by the Office of Management and Budget. Areas delineated based on 2020 Census and 2016-2020 ACS 5-year data will reflect the new county equivalents. New England City and Town Areas (NECTAs) and combined NECTAs are not affected by this change.

Timeline

The Census Bureau proposes to implement adoption of the nine planning regions as county equivalents in 2023 and include the planning regions in all geospatial and statistical data products referenced to 2023 and each year thereafter.

Officials with the State of Connecticut's Office of Policy and Management contacted the Census Bureau in October 2017 regarding the process they should follow in order to adopt the State's nine planning regions as county equivalents. At that time, Census Bureau staff advised that officials first obtain broad data user support throughout the State, including from other State agencies, the State Data Center, as well as the planning regions. Once broad support for the change was achieved, a formal request addressed to the Census Bureau's Director was needed for the Census Bureau to take formal steps toward adoption of the nine planning regions as county equivalents. The State's formal request was received by the Census Bureau in August 2019. The State also submitted a letter of support from the Connecticut Data Collaborative/State Data Center attesting to the importance and value of data for planning regions to analysts, decision makers, and other data users throughout Connecticut as well as broad support for the change among data users throughout the State. In addition, members of Connecticut's Congressional Delegation, chairs of each of the State's nine COGs, and officials from the Connecticut Conference of Municipalities, Council of Small Towns, and the Advisory Commission on Intergovernmental Relations were copied on the State's letter to the Census Bureau. The Census Bureau held a meeting with Connecticut State and local government officials, state agency staff, and COG chairs in April 2020 to provide an update on outreach regarding the proposed change; meeting participants reiterated the importance of, and support for, adoption of the State's nine planning regions as county equivalents.

The Census Bureau began outreach to other federal agencies and data users regarding this change in October 2019, following the State of Connecticut's formal request to replace its eight counties with the nine planning regions. The Census Bureau has held seven briefings for federal agency staff: one for the Interagency Council on Statistical Policy; two organized by the Federal Committee on Statistical Methodology-Geospatial Interest Group; two for Department of Housing and Urban Development staff, including staff managing the Community Development Block Grant and other funding programs; one for Bureau of Labor Statistics staff; and one organized by the US Department of Transportation attended by federal, state, and local transportation planners. This Notice serves as the formal process by which the Census Bureau is announcing the intended change and through which it will gather formal comments.

Following completion of the formal period of comment associated with this Notice, the Census Bureau, in consultation with officials with the State of Connecticut, will review comments received and reach a final decision regarding whether to implement adoption of the nine planning regions as county equivalents.

Table 4—Timeline of Activities
Activity | Dates
Officials from the State of Connecticut's Office of Policy and Management contact Census Bureau regarding proposed adoption of planning regions as county equivalents | October 2017.
Office of Policy and Management staff conduct outreach at the State-level to obtain consensus for change | November 2017-March 2019.
Formal request from the State of Connecticut to the Census Bureau's Director regarding adoption of planning regions as county equivalents | August 2019.
Census Bureau outreach to federal agencies and other data users | September 2019-present.
Federal Register Notice announcing the Census Bureau's proposed implementation of the change in county equivalents | Fall 2020.
Census Bureau, in consultation with the State of Connecticut, issues final decision regarding adoption of planning regions as county equivalents | Summer 2021.

Steven D. Dillingham, Director, Bureau of the Census, approved the publication of this Notice in the Federal Register.

Dated: December 9, 2020.
Sheleen Dumas,
Department PRA Clearance Officer, Office of the Chief Information Officer, Commerce Department.

[FR Doc. 2020-27459 Filed 12-11-20; 8:45 am]

BILLING CODE 3510-07-P